DEPARTMENT OF THE INTERIOR

Bureau of Reclamation

[RR0230000, 17XR0680B1, RX.20671000.0000000]

Draft Environmental Impact Report/Environmental Impact Statement for North Bay Water Recycling Program Phase 2, California

AGENCY: Bureau of Reclamation, Interior.

ACTION: Notice of intent; request for comments.

SUMMARY: The Sonoma County Water Agency, acting as administrator for the North Bay Water Reuse Authority and the lead State agency, and the Bureau of Reclamation, the lead Federal agency, will prepare a joint Environmental Impact Report/Environmental Impact Statement for Phase 2 of the North Bay Water Recycling Program. The purpose of the Phase 2 Program is to build upon the existing regional wastewater reuse network developed under the Program's Phase 1 to provide additional opportunities for recycled water for agricultural, urban, and environmental uses as an alternative to discharging treated wastewater to San Pablo Bay.

DATES: Submit written comments on the scope of the Environmental Impact Report/Environmental Impact Statement (EIR/EIS) on or before December 6, 2017.

ADDRESSES: Send written comments on the scope of the EIR/EIS to Anne Crealock, Sonoma County Water Agency, 404 Aviation Boulevard, Santa Rosa, CA 95403, or email to Phase2EIR@nbwra.org. Documents may be viewed at www.nbwra.org/.

FOR FURTHER INFORMATION CONTACT: Ms. Anne Crealock, Sonoma County Water Agency, at (707) 547-1948, or via email at Phase2EIR@nbwra.org; or Douglas Kleinsmith, Bureau of Reclamation, at (916) 978-5034, email at dkleinsmith@usbr.gov.

SUPPLEMENTARY INFORMATION:

Background

Recognizing the continuing need for an integrated and regional approach to water management, wastewater and potable water agencies in the North San Pablo Bay region of California have joined together to propose expansion of existing recycled water use in the region. The North Bay Water Reuse Authority (NBWRA), established under a Memorandum of Understanding (MOU) in August 2005, now comprises 11 wastewater and potable water utilities as members, and associate member agencies—the Las Gallinas Valley Sanitary District, the Novato Sanitary District, the Sonoma Valley County Sanitation District, the Napa Sanitation District, North Marin Water District, Napa County, Marin County, Marin Municipal Water District, the City of American Canyon, the City of Petaluma, and Sonoma County Water Agency (SCWA). The SCWA is also currently acting as the administrative agency. Under the MOU, NBWRA continues to explore opportunities to coordinate “interagency efforts to expand the beneficial use of recycled water in the North Bay Region thereby promoting the conservation of limited surface water and groundwater resources.”

NBWRA developed the regional North Bay Water Recycling Program for expanding cooperative water reuse within the North San Pablo Bay region. The SCWA, as the California Environmental Quality Act (CEQA) Lead Agency and the Bureau of Reclamation (Reclamation), as the Lead Agency under the National Environmental Policy Act (NEPA), completed a Draft EIR/EIS for Phase 1 of the North Bay Water Recycling Program Project (Phase 1 Project). SCWA certified the EIR in December 2009. Reclamation released a Final EIS in June 2010 and signed a Record of Decision in January 2011 for the Phase 1 Project. Reclamation provided funding assistance for Phase 1 under of Title XVI of Public Law 102-575, which provides a mechanism for Federal participation and cost-sharing in approved water reuse projects.

The Phase 2 Program now proposed by NBWRA seeks to increase the beneficial use of recycled water in the North Bay Region beyond Phase 1. Reclamation may also provide funding assistance under Title XVI of Public Law 102-575. The proposed Phase 2 Program would consist of distribution facilities, treatment capacity improvements, and storage (seasonal and operational) to make between 5,039 and 6,516 acre-feet per year of recycled water available for environmental, agricultural, and municipal reuse, consistent with the California Code of Regulations, Title 22, pertaining to the use of tertiary-treated recycled water.

At this time, there are no known Indian trust assets or environmental justice issues associated with the Proposed Action.

Scoping Process

NBWRA filed a Notice of Preparation (California State Clearinghouse no. 2017072051) on July 20, 2017, pursuant to the California Environmental Quality Act (CEQA) (P.R.C. section 21092, C.C.R. section 15082) and held four public scoping meetings in August 2017. To avoid duplication with State and local procedures, we plan to use the scoping process initiated by NBWRA under CEQA. No additional public scoping meetings are planned at this time. However, Reclamation will fully consider all input received on this notice of intent. The CEQA Notice of Preparation is available at http://www.nbwra.org/wp/wp-content/uploads/NBWRA-Phase-2-NOP.pdf.

Public Disclosure

Before including your address, phone number, email address, or other personal identifying information in your comment, you should be aware that your entire comment—including your personal identifying information—may be made publicly available at any time. While you can ask us in your comment to withhold your personal identifying information from public review, we cannot guarantee that we will be able to do so.

Dated: October 31, 2017.
Federico Barajas,
Deputy Regional Director, Mid-Pacific Region.

[FR Doc. 2017-24085 Filed 11-3-17; 8:45 am]

BILLING CODE 4332-90-P